DEPARTMENT OF JUSTICE

Antitrust Division

Notice Pursuant to the National Cooperative Research and Production Act of 1993—Telemanagement Forum

Notice is hereby given that, on March 7, 2000, pursuant to Section 6(a) of the National Cooperative Research and Production Act of 1993, 15 U.S.C. 4301 et seq. (“the Act”), Telemanagement Forum (“the Forum”) has filed written notifications simultaneously with the Attorney General and the Federal Trade Commission disclosing changes in its membership status. The notifications were filed for the purpose of extending the Act's provisions limiting the recovery of antitrust plaintiffs to actual damages under specified circumstances. Specifically, GE Information Services, Inc., Tampa, FL; US West, Inc., Denver, CO; Omnitel Pronto Italia S.p.A., Corsico (MI), ITALY; CASEwise, Waltham, MA; Huawei Technologies Co., Ltd., Shenzhen, PEOPLE'S REPUBLIC OF CHINA; Agilent Technologies, South Queensferry, West Lothian, Scotland, UNITED KINGDOM; Global Crossing, Morristown, NJ; and MTN RSA, Sandton, SOUTH AFRICA have become Corporate Members. Matsushita Communication Industrial Co., Ltd., Kadoma City, Osaka, JAPAN; CEGETEL, Paris la Defense Cedex, FRANCE; Inlogic Software, Inc., Toronto, Ontario, CANADA; Saville, Edmonton, Alberta, CANADA; Videotron, Montreal, Quebec, CANADA; USHA Martin Telekom Ltd., Calcutta, INDIA; Wisor, Rockville, MD; Connectus, Chantilly, VA; Mobistar SA, Brussels, BELGIUM; Vitria Technology, Inc., Sunnyvale, CA; Burlington Northern Santa Fe Railway, Kansas City, KS; Sigma Systems Group, Toronto, Ontario, CANADA; Popkin Software & Systems, Inc., Leamington Spa Warks, Warwickshire, England, UNITED KINGDOM; Mediation Technology Corporation, Calgary, Alberta, CANADA; IFS Nordic AB, Solua, SWEDEN; Lockheed Martin IMS, Communications Industry Services, Washington, DC; Williams Communication Group, Tulsa, OK; Stentor, Managing Consultant—Data Services Engineering, Ottawa, Ontario, CANADA; Ennovate Networks, Inc., Boxborough, MA; Avisto S.A., Sophia Antipolis, FRANCE; Bosch Telekom Software, Systeme GmbH & Co. KG, Backnang, GERMANY; Pluris, Inc., Cupertino, CA; eMis eMerging Information Systems, Inc., Morrisville, NC; Sirius Software GmbH, Oberhaching, GERMANY; Orchrestream, London, England, UNITED KINGDOM; Actiz, London, England, UNITED KINGDOM; NextLink, Bellevue, WA; Aptis Software, San Antonio, TX; Telrad Networks, Lod, ISRAEL; Leading Edge Systems, Inc., Falls Church, VA; Objectif Pty Ltd., North Sydney, New South Wales, AUSTRALIA; Cellcom Israel, Inc., Herzliya B, ISRAEL; BMS Corporation, Denver, CO; Avnisoft Corp., Sunnyvale, CA; Velankani Information Systems, Somerset, NJ; Jetstream Communications, Los Gatos, CA; Altus Solutions, Inc., Burnaby, British Columbia, CANADA; Objectswitch, Irving, TX; Mer Telemanagement Solutions, Bnei Brak, ISRAEL; Avilin Ltd., Raanana, ISRAEL; Abobase Systems Ltd., Tallinn, ESTONIA; Smartrek Ltd., Wabern, SWITZERLAND; Samsung Electronics Co., Ltd., Seohyeon-Dong, Pundang-Gu, Sungnam-Shi, Kyunggi-Do, REPUBLIC OF KOREA; Star Home Ltd., Tel Aviv, ISRAEL; ViewGate Networks, Alexandria, VA; Chromatis Networks, Bethesda, MD; Cambio, Reston, VA; Deriveitt, LLC, Campbell, CA; and Conmitel Technologies, Cork, IRELAND have become Associate Members. EPS, McKinney, TX; BBW Consulting Services, Aylmer, Ontario, CANADA; US Web/CKS, Toronto, Ontario, CANADA; Laboratory For Telecommunications, Ljubljana, SLOVENIA; State of California Telecommunications Division, Sacramento, CA; and Cohen Communications Group, New York, NY have become Affiliate Members.

The following existing members have changed their names: Kokusai Denshin Denwa Col., Ltd. is now KDD Corp., Saitama, JAPAN; Lightera Networks is now Ciena, Cupertino, CA; Wandel & Golterman, Ltd. is now Wavetek Wandel Goltermann, Plymouth, Devon, England, UNITED KINGDOM; Beechwood Data Systems is now Cap Gemini Telecommunications, Clark, NJ; Accunet Ltd. is now Axarte, Newbury, Berkshire, England, UNITED KINGDOM; Open Technology Pty., Ltd. is now Open Telecommunications, Ltd., North Sydney, AUSTRALIA; FirstTel Systems is now Ceon, Redwood Shores, CA; Nokia Telecommunications is now Nokia Networks Oy, Espoo, FINLAND; Object-Mart Inc. is now Optical Networks, San Jose, CA; InConcert, Inc. is now Tibco/Inconcert, Cambridge, MA; Spazio ZeroUno S.p.A. is now Advanced Network Solutions S.p.A., Vimodrone, ITALY; Lockheed Martin IMS, Communications Industry Services is now NeuStar, Inc., Washington, DC; InLogic Software, Inc. is now Daleen Technologies, Toronto, Ontario, CANADA; and Hermes Europe Railtel-Her Network Services BVBA is now Global Telesystems Group (GTS), Hoeilaart, BELGIUM.

Telefonos de Mexico, S.A. de C.V., Col. Florida, Mexico D.F., MEXICO; Premisys Communications Inc., Fremont, CA; Bosch Telekom Inc., Gaithersburg, MD; Netmansys, Meylan, FRANCE; Infostrada, SJA, Milan, ITALY; Expertsoft Corporation, Reston, VA; John E. Watson, Consultant/Developer, Telecom Software Solutions, Morgaton, GA; DEJ Consulting, Madrid, SPAIN; Versant Object Technologies, Menlo Park, CA; O.Tel.O Communications, Koln, GERMANY; X-Cel Communications Ltd., Camberley, Surrey, England, UNITED KINGDOM; Worldbridge Broadband Services, Inc., Nashville, TN; Visual Networks, Hudson, MA; Ernst & Young, LLP., Sacramento, CA; ITTI, Ltd., Pozman, POLAND; JK Zcom, Inc., Manassas, VA; Dynamic Consulting International, Berrocales Del Jarama, SPAIN; ETRI, Taejon, REPUBLIC OF KOREA; GRC International, Inc., Vienna, VA; Ukranian Research Institute of Communications (UNDIZ), Kyiv, UKRAINE; National Westminster Bank PLC, Kegworth, Derby, England, UNITED KINGDOM; INRIA Lorraine, Botanique, Villers-Les-Nancy, FRANCE; Verdonck, Klooster & Associates BV, Zoetermeer, THE NETHERLANDS; Concert Communications Company, Reston, VA; Metapath, Bellevue, WA; Liacom Systems, Holon, ISRAEL; Novadigm, Inc., Saddle Brook, NJ; Teligent, Herndon, VA; Sprint PCS, Lenexa, KS; Cintel, Santafe de Bogota, D.C., COLUMBIA; Saville, Edmonton, Alberta, CANADA; Teleglobe Canada, Inc., Montreal, Quebec, CANADA; ForeSystems, Dublin, IRELAND; Applied Digital Access-Canada, Inc., Burnaby, British Columbia, CANADA; Ascend Communications, Beachwood, OH; and Hanson Cooke, London, England, UNITED KINGDOM have been dropped as parties to this venture.

No other changes have been made in either the membership or planned activity of the group research project. Membership in this group research project remains open, and the Forum intends to file additional written notifications disclosing all changes in membership.

On October 21, 1988, the Forum filed its original notification pursuant to Section 6(a) of the Act. The Department of Justice published a notice in the Federal Register pursuant to Section 6(b) of the Act on December 8, 1988 (53 FR 49615).

The last notification was filed with the Department on June 8, 1999. A notice was published in the Federal Register pursuant to Section 6(b) of the Act on March 21, 2000 (65 FR 15177).

Constance K. Robinson,
Director of Operations, Antitrust Division.

[FR Doc. 00-24607 Filed 9-25-00; 8:45 am]

BILLING CODE 4410-11-M